DEPARTMENT OF ENERGY

Federal Energy Regulatory Commission

Combined Notice of Filings #2

Take notice that the Commission received the following electric corporate filings:

Docket Numbers: EC18-115-000.

Applicants: Conemaugh Power LLC, Keystone Power LLC.

Description: Application for Approval Under Section 203 of the Federal Power Act and Request for Expedited Action of Conemaugh Power LLC, et al.

Filed Date: 6/29/18.

Accession Number: 20180629-5322.

Comments Due: 5 p.m. ET 7/20/18.

Docket Numbers: EC18-116-000.

Applicants: International Transmission Company.

Description: Application for Approval Pursuant under Section 203 of the Federal Power Act of International Transmission Company.

Filed Date: 7/2/18.

Accession Number: 20180702-5033.

Comments Due: 5 p.m. ET 7/23/18.

Take notice that the Commission received the following electric rate filings:

Docket Numbers: ER10-1817-017; ER10-1818-016;ER10-1819-019; ER10-1820-022.

Applicants: Southwestern Public Service Company, Public Service Company of Colorado, Northern States Power Company, a Minnesota corporation, Northern States Power Company, a Wisconsin corporation.

Description: SPS Triennial MBR Filing of Southwestern Public Service Company, et al.

Filed Date: 6/29/18.

Accession Number: 20180629-5330.

Comments Due: 5 p.m. ET 8/28/18.

Docket Numbers: ER10-2405-006.

Applicants: High Prairie Wind Farm II, LLC.

Description: Updated Market Power Analysis for the Central Region and Notice of Non-Material Change in Status of High Prairie Wind Farm II, LLC.

Filed Date: 6/29/18.

Accession Number: 20180629-5321.

Comments Due: 5 p.m. ET 8/28/18.

Docket Numbers: ER10-3097-007.

Applicants: Bruce Power Inc.

Description: Updated Market Power Analysis for the Central Region of Bruce Power Inc.

Filed Date: 6/29/18.

Accession Number: 20180629-5329.

Comments Due: 5 p.m. ET 8/28/18.

Docket Numbers: ER11-2105-002.

Applicants: Oklahoma Gas and Electric Company.

Description: Updated Market Power Analysis for Southwest Power Pool, Inc. Balancing Area Authority of Oklahoma Gas and Electric Company.

Filed Date: 6/29/18.

Accession Number: 20180629-5325.

Comments Due: 5 p.m. ET 8/28/18.

Docket Numbers: ER12-1933-009; ER12-1934-008.

Applicants: Interstate Power and Light Company, Wisconsin Power and Light Company.

Description: Updated Triennial Market Power analysis for the Central region of Interstate Power and Light Company, et al.

Filed Date: 6/29/18.

Accession Number: 20180629-5320.

Comments Due: 5 p.m. ET 8/28/18.

Docket Numbers: ER17-814-002; ER17-816-002; ER17-815-002; ER10-2606-013.

Applicants: Verso Energy Services LLC, Verso Luke LLC, Verso Escanaba LLC, Consolidated Water Power Company.

Description: Updated Market Power Analysis of the Verso Market-Based Rate Entities for Central Region.

Filed Date: 6/29/18.

Accession Number: 20180629-5327.

Comments Due: 5 p.m. ET 8/28/18.

Docket Numbers: ER17-1622-002.

Applicants: J. Aron & Company LLC.

Description: Notice of Non-Material Change in Status of J. Aron & Company LLC.

Filed Date: 6/29/18.

Accession Number: 20180629-5318.

Comments Due: 5 p.m. ET 7/20/18.

Docket Numbers: ER18-1245-001.

Applicants: PJM Interconnection, L.L.C.

Description: Compliance filing: Compliance Filing Pursuant to the May 31, 2018 Order in Docket No. ER18-1245-000 to be effective 6/1/2018.

Filed Date: 7/2/18.

Accession Number: 20180702-5123.

Comments Due: 5 p.m. ET 7/23/18.

Take notice that the Commission received the following electric securities filings:

Docket Numbers: ES18-43-000.

Applicants: DesertLink, LLC.

Description: Application Under Section 204 for Authorization to Issue Debt of DesertLink, LLC.

Filed Date: 6/29/18.

Accession Number: 20180629-5328.

Comments Due: 5 p.m. ET 7/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2018.
Kimberly D. Bose,
Secretary.

[FR Doc. 2018-14765 Filed 7-10-18; 8:45 am]

BILLING CODE 6717-01-P